DEPARTMENT OF TRANSPORTATION

Federal Aviation Administration

14 CFR Part 71

[Docket No. FAA-2010-0323; Airspace Docket No. 10-ANE-106]

Proposed Establishment of Class E Airspace; Lancaster, NH

AGENCY: Federal Aviation Administration (FAA), DOT.

ACTION: Notice of proposed rulemaking (NPRM), withdrawal.

SUMMARY: This action withdraws the NPRM published in the Federal Register on July 22, 2010 which proposed to establish Class E airspace at Weeks Medical Center Heliport, Lancaster, NH. The NPRM is being withdrawn as a portion of the proposed airspace already exists. A new rulemaking will be forthcoming to correctly establish the new airspace.

DATES: Effective 0901 UTC, October 26, 2010.

FOR FURTHER INFORMATION CONTACT: Richard Horrocks, Operations Support Group, Eastern Service Center, Federal Aviation Administration, P.O. Box 20636, Atlanta, Georgia 30320; telephone (404) 305-5588.

SUPPLEMENTARY INFORMATION:

History

On July 22, 2010, a NPRM was published in the Federal Register to establish Class E airspace at Lancaster, NH to accommodate special standard instrument approach procedures for Weeks Medical Center Heliport. (75 FR 42630) Docket No. FAA-2010-0323. After publication the FAA found that the airspace description in the proposed rule incorrectly included existing controlled airspace 1,200 feet above the surface. To avoid confusion, this proposed rule is being withdrawn and will be established under another rulemaking.

Lists of Subjects in 14 CFR Part 71

Airspace, Incorporation by reference, Navigation (Air).

The Withdrawal

Accordingly, pursuant to the authority delegated to me, the Notice of Proposed Rulemaking, Airspace Docket No. 10-ANE-106, as published in the Federal Register on July 22, 2010 (75 FR 42630) (FR Doc. 2010-0323), is hereby withdrawn.

Authority: 49 U.S.C. 106(g); 40103, 40113, 40120; E.O. 10854, 24 FR 9565, 3 CFR, 1959-1963 Comp., p. 389.

Issued in College Park, Georgia, on October 15, 2010.
Mark D. Ward,
Manager, Operations Support Group, Eastern Service Center, Air Traffic Organization.

[FR Doc. 2010-26943 Filed 10-25-10; 8:45 am]

BILLING CODE 4910-13-P